NATIONAL SCIENCE FOUNDATION

Advisory Committee for Geosciences; Notice of Meeting

In accordance with the Federal Advisory Committee Act (Pub. L. 92-463, as amended), the National Science Foundation announces the following meeting:

Name: Advisory Committee for Geosciences (1755).

Dates: October 14, 2009, 8:15 a.m.-5:15 p.m.

October 15, 2009, 8:30 a.m.-2 p.m.

Place: Stafford I, Room 1235, National Science Foundation, 4201 Wilson Blvd., Arlington, Virginia 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight concerning support for research, education, and human resources development in the geosciences.

Agenda: October 14: Directorate activities and plans, SODV Briefing, Division Subcommittee Meetings, Education & Diversity Subcommittee Meeting, Meeting with the Director and Deputy Director.

October 15: Discussion of GEO International Activities, COV and Subcommittee Reports, Action Items/Planning for Spring Meeting.

Dated: September 16, 2009.
Susanne Bolton,
Committee Management Officer.

[FR Doc. E9-22613 Filed 9-18-09; 8:45 am]

BILLING CODE 7555-01-P